FEDERAL MARITIME COMMISSION

Ocean Transportation Intermediary License; Rescission of Order of Revocation

Notice is hereby given that the Order revoking the following license has been rescinded by the Federal Maritime Commission pursuant to section 40901 of the Shipping Act of 1984 (46 U.S.C. 40101).

License Number: 022797N

Name: Lupprian's Cargo Express, Inc.

Address: 700 Nicholas Blvd., Suite 401, Elk Grove Village, IL 60007

Order Published: June 27, 2012 (77 FR 38289 DOC No. 2012-15700)

Vern W. Hill,
Director, Bureau of Certification and Licensing.

[FR Doc. 2012-16926 Filed 7-10-12; 8:45 am]

BILLING CODE 6730-01-P